DEPARTMENT OF DEFENSE

Department of the Navy

[Docket ID: USN-2008-0054]

Privacy Act of 1974; System of Records

AGENCY: United States Marine Corps, DoD.

ACTION: Notice to Delete Two Systems of Records Notices.

SUMMARY: The U.S. Marine Corps is proposing to delete two systems of records notices from its inventory of records systems subject to the Privacy Act of 1974, as amended (5 U.S.C. 552a).

DATES: This action will be effective without further notice on October 31, 2008 unless comments are received that would result in a contrary determination.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records systems notices for records systems subject to the Privacy Act of 1974 (5 U.S.C. 552a), as amended, have been published in the Federal Register and are available from the address above.

The U.S. Marine Corps proposes to delete two systems of records notices from its inventory of record systems subject to the Privacy Act of 1974 (5 U.S.C. 552a), as amended. The proposed deletions are not within the purview of subsection (r) of the Privacy Act of 1974 (5 U.S.C. 552a), as amended, which requires the submission of new or altered systems reports.

Dated: September 23, 2008.
Patricia L. Toppings,
OSD Federal Register Liaison Officer, Department of Defense.

MMN00045

System Name:

Automated Recruit Management System (ARMS) (February 22, 1993, 58 FR 10630).

Reason:

These records are covered under System of Records Notice M01133-3, Marine Corps Recruiting Information Support System MCRISS) (May 23, 2008, 73 FR 30095).

MMN00006

System Name:

Marine Corps Military Personnel Records (OQR/SRB) (April 8, 2002, 67 FR 16738).

Reason:

These records are covered under System of Records Notice M01070-6, Marine Corps Official Military Personnel Files (March 17, 2008, 73 FR 14234).

[FR Doc. E8-23032 Filed 9-30-08; 8:45 am]

BILLING CODE 5001-06-P